DEPARTMENT OF JUSTICE

Antitrust Division

Notice Pursuant to the National Cooperative Research and Production Act of 1993—The National Advanced Mobility Consortium, Inc.

Notice is hereby given that, on December 1, 2023, pursuant to section 6(a) of the National Cooperative Research and Production Act of 1993, 15 U.S.C. 4301 et seq. (“the Act”), The National Advanced Mobility Consortium, Inc. (“NAMC”) has filed written notifications simultaneously with the Attorney General and the Federal Trade Commission disclosing changes in its membership. The notifications were filed for the purpose of extending the Act's provisions limiting the recovery of antitrust plaintiffs to actual damages under specified circumstances. In preparation of the GFY 2023 filing, The National Advanced Mobility Consortium, Inc. determined that an incorrect membership list was inadvertently filed in 2022. A corrected membership list for GFY 2022 and GFY 2023 is included herein. Specifically, during Government Fiscal Year (GFY) 2022, A.T. Kearney Public Sector and Defense Services, LLC, Arlington, VA; Aegis Power Systems, Inc., Murphy, NC; Allied Defense, Sarasota, FL; Analytical Graphics, Inc., dba Ansys Government Initiatives, Exton, PA; Applied Systems Engineering Inc. dba ASEI, Niceville, FL; Apptronik, Inc, Austin, TX; Armag Corporation, Bardstown, KY; Automotive International INC—ValuGard, Cincinnati, OH; Autonodyne LLC, Boston, MA; AvaWatz Company, Addison, TX; Aveox Inc., Simi Valley, CA; BC Engineered Products, Morristown, NJ; Caterpillar Inc., Peoria, IL; Cornerstone Research Group, Miamisburg, OH; Cummins Power Generation Inc, Fridley, MN; Czero Inc, Fort Collins, CO; D & R Technical Solutions, Inc, Vestal, NY; DiSTI Corporation, Orlando, FL; Empirical Systems Aerospace, Inc., San Luis Obispo, CA; EngeniusMicro, Huntsville, AL; Essex Electro Engineers, Inc, Schaumburg, IL; Fairwinds Technologies LLC, Annapolis, MD; Front End Analytics, Boston, MA; FSI Defense, Fort Worth, TX; Hendrickson USA, L.L.C., Woodridge, IL; Herley Industries Inc., dba Ultra Intelligence & Communications SFP, Lancaster, PA; HIAB USA INC., Perrysburg, OH; HIPPO POWER LLC DBA HIPPO MULTIPOWER, RIVERSIDE, MO; Hupp and Associates Inc., dba Hupp Aerospace Defense, New Haven, IN; Hyperion Technology Group, Inc., Tupelo, MS; Jaxon Engineering and Maintenance, LLC, Colorado Springs, CO; Jet Machine and Manufacturing, Cincinnati, OH; Keshik Mobile Power Systems, Northborough, MA; Leadtank Incorporated, dba RobosoftAI, Thousand Oaks, CA; Link Mfg., Ltd., Sioux Center, IA; McCormick Stevenson Corporation, Dunedin, FL; NINOX 360 LLC, Redwood City, CA; NTL Industries Inc., Sterling Heights, MI; Orbital Research Inc, Cleveland, OH; Pacific Defense, El Segundo, CA; Palantir USG, Inc., Palo Alto, CA; PD Power Systems, LLC, Springfield, VA; Peerless Technologies Corporation, Fairborn, OH; Powertrain Rockford Inc, Loves Park, IL; Rebellion Defense, Inc., Washington, DC; Reveal Technology Inc, San Carlos, CA; RMD LLC, Nipomo, CA; Rocky Mountain Scientific Laboratory, Littleton, CO; Scale AI, San Francisco, CA; Scientific Applications & Research Associates, Inc. (SARA), Cypress, CA; Special Operations Solutions dba Aevex Engineering and Technology, Harrisonburg, VA; The Spectrum Group, LLC, Alexandria, VA; Trident Systems Incorporated, Fairfax, VA; TurbineOne, San Francisco, CA; Uptake Technologies, Inc, Chicago, IL; Vadum, Inc., Raleigh, NC; XMCO INC., Warren, MI, and specifically during GFY 2023, 3M Government Markets, Washington, DC; Advanced Conversion Technology, Inc., Middletown, PA; Advanced Technology Systems Company (ATSC), McLean, VA; AEROGLOW LLC, Fredericksburg, VA; AimLock Inc., Littleton, CO; Amentum Services, Inc., Germantown, MD; Applied Intuition, Mountain View, CA; ARES Security Corporation, Vienna, VA; AZAK, Inc., Driggs, ID; BAE Systems Information and Electronic Systems Integration, Inc., Merrimack, NH; BlackBar Engineering, Sierra Vista, AZ; BlueRISC, Inc., Amherst, MA; BlueSpace.ai, Emeryville, CA; Broadband Antenna Tracking Systems, Inc, Indianapolis, IN; CDM ELECTRONICS, INC., Turnersville, NJ; Dayton T. Brown, Bohemia, NY; DRS Network & Imaging Systems, LLC, Melbourne, FL; EnerSys, Macomb, MI; EnQuanta, Minneapolis, MN; Exergi Predictive LLC, Hugo, MN; Exotic Automation & Supply, New Hudson, MI; EZ-A Consulting, LLC, Bel Air, MD; FD Software Enterprises LLC, East Stroudsburg, PA; Galois, Inc., Portland, OR; Hawk Technologies, LLC, Hancock, MI; Hazard Protection Systems, Inc., Anchorage, AK; Hiller Measurements Inc, Austin, TX; Huntsman International LLC, The Woodlands, TX; Karagozian & Case, Glendale, CA; Kevadiya Inc, Pontiac, MI; Kostas Research Institute (KRI) at Northeastern University, Burlington, MA; LiquidPiston, Inc., Bloomfield, CT; Luna Labs USA, LLC, Charlottesville, VA; MATBOCK, LLC, Virginia Beach, VA; Mission Solutions Group, North Charleston, SC; Moog Inc., East Aurora, NY; Noblis, Inc., Reston, VA; NVIDIA Corporation, Durham, NC; Paradigm Research and Engineering, Ann Arbor, MI; Parry Labs LLC, Alexandria, VA; PHUOC LUONG dba TWF ENTERPRISE, San Jose, CA; Plexus Corp.—Neenah Design Center, Neenah, WI; Pliant Energy Systems LLC, Brooklyn, NY; Quantum Imaging Inc., Colorado Springs, CO; Seiler Instrument and Manufacturing Company, Inc., Saint Louis, MO; Signal Systems Corporation, Millersville, MA; Skayl LLC, Westminster, MD; The Armored Group, LLC, Phoenix, AZ; Triton Systems Inc., Chelmsford, MA; Ultra Advanced Tactical Systems, Austin, TX; Visible Assets, Inc., Stratham, NH; and VTN Manufacturing Inc., Fremont, CA, have been added as parties to this venture.

Also during GFY 2022, Adsys Controls, Inc., Irvine, CA; AimLock, Littleton, CO; Alion Science and Technology, McLean, VA; Ametek | Spectro Scientific, Chelmsford, MA; AVL Powertrain Engineering, Inc., Plymouth, MI; BlackHorse Solutions, Inc., Herndon, VA; Brenner Tank Services LLC, Fond du Lac, WI; Brighton Cromwell, LLC, Randolph, NJ; Buffalo Armory LLC, Buffalo, NY; CertTech LLC, Saginaw, MI; Chase Defense Partners, Hampton, VA; Cherokee Nation Aerospace & Defense, Tulsa, OK; Compusult Systems Inc., Chantilly, Virginia; ContiTech USA, Inc. (Formerly Veyance Technologies, Inc.), St Marys, OH; CoorsTek Incorporated, Golden, CO; Czero, Inc., Fort Collins, CO; Embedded Systems Inc dba ESI Motion, Simi Valley, CA; EndoSec LLC, Washington, DC; Florida Institute for Human and Machine Cognition, Inc. (IHMC), Pensacola, FL; Galvion Ltd, Portsmouth, NH; Gravikor, Inc., Ann Arbor, MI; IERUS Technologies, Inc., Huntsville, AL; Island City Engineering LLC, Merrill, WI; iXblue Defense Systems, Inc., Natick, MA; John H. Northrop & Associates, Inc., Alexandria, VA; Kaman Precision Products (div of Kaman Aerospace Corp), Middletown, CT; Kevin Diaz, Niceville, FL; Kopis Mobile, Flowood, MS; L3 Technologies, Inc. (Communication Systems-East), Camden, NJ; LiquidPiston, Inc., Bloomfield, CT; Lynntech, Inc., College Station, TX; Maynard Steel Casting Company, Milwaukee, WI; Military Systems Group, Inc., Nashville, TN; Mission Secure, Inc., Charlottesville, VA; Nahsai, LLC, Ann Arbor, MI; Numurus LLC, Seattle, WA; ODU-USA, Inc., Camarillo, CA; Photodon, LLC, Traverse City, MI; Pi Innovo LLC, Plymouth, MI; Precision Advanced Machining Co., Clinton Township, MI; Quantum Ventura Inc., Los Angeles, CA; Real-Time Analyzers, Inc., Middletown, CT; ServiceNow, Santa Clara, CA; Steelhead Composites, Golden, CO; Systematic Inc., Centreville, VA; T.E.A.M., Inc., Woonsocket, RI; The TireBall Company, Crestwood, KY; The University of Texas at Austin, Austin, TX; TORC Robotics, Blacksburg, VA; Triad Services Group Inc., Madison Heights, MI; University of Delaware Center for Composite Materials, Newark, DE; Virginia Polytechnic Institute and State University, Blacksburg, VA; VITEC, Inc., Atlanta, GA; Volans-I, San Francisco, CA; XPER (formerly Ibis-Tek), Butler, PA; YawPITCH, LLC, Holland, MI, and during GFY 2023, Abaco Systems, Huntsville, AL; Acrow Corp of America, Inc., Parsippany, NJ; Aegis Systems Inc. (Actuate), New York, NY; AMBOT, Reno, NV; AmSafe, Inc., Phoenix, AZ; AOM Engineering Solutions LLC, Dearborn Heights, MI; API Heat Transfer, Inc., Buffalo, NY; Applied Minds, LLC, Burbank, CA; APT-Research, Inc., Huntsville, AL; Armag Corporation, Bardstown, KY; ASRC Federal Mission Solutions, Moorestown, NJ; ATI Inc. (Alloy Technology Innovations Inc.), Lexington, KY; Autonodyne LLC, Boston, MA; B&H INTERNATIONAL LLC, BAKERSFIELD, CA; BlackBar Engineering, Sierra Vista, AZ; CAMX Power LLC, Lexington, MA; Clemson University—College of Engineering and Science, Clemson, SC; CP Technologies LLC (Chassis Plans LLC), Prescott, AZ; D-2 Incorporated, Bourne, MA; DataRobot, Boston, MA; DB Santasalo—USA, Greer, SC; Deep Analytics LLC, Montpelier, VT; Dell Technologies, Apex, NC; DOLL America Inc., Allenwood, NJ; DroneShield LLC, Warrenton, VA; Eck Industries, Inc., Manitowoc, WI; Essex Electro Engineers, Inc, Schaumburg, IL; Fenix Group Inc., Chantilly, VA; FPH USA, Roseville, MI; Future Tense LLC dba CalypsoAI Labs, Richmond, VA; Gen3 Defense and Aerospace LLC, Grand Rapids, MI; General Electric Aviation Systems, LLC, Grand Rapids, MI; Georgia Tech Applied Research Corporation (Georgia Tech Research Corporation), Atlanta, GA; Grand Valley Mfg, Titusville, PA; Great Lakes Systems & Technology LLC, Chesterfield Twp, MI; Gunite Corporation (Accuride Corporation), Rockford, IL; Hamilton Sundstrand Corporation (Colins Aerospace Company), Rockford, IL; Intelligent Automation, Inc., Rockville, MD; International Logistics Systems, Inc., Glen Rock, PA; Janus Communications, Irvine, CA; Jaxon Engineering and Maintenance, LLC, Colorado Springs, CO; Jenoptik Advanced Systems, LLC, Rochester Hills, MI; JWF Defense Systems, Johnstown, PA; Keshik Mobile Power Systems, Northborough, MA; L3Harris Technologies | Link Training & Simulation, Arlington, TX; L3 TECHNOLOGIES INC. COMMUNICATIONS SYSTEMS WEST OPERATING DIVISION, Salt Lake City, UT; Macomb Community College, Warren, MI; MAK Technologies, Orlando, FL; Maxar Space Robotics LLC (formerly SSL Robotics LLC), Pasadena, CA; Mayer Alloys Corporation, Ferndale, MI; Metalbuilt LLC, Chesterfield, MI; Michigan Engineering Services, LLC, Ann Arbor, MI; Microsoft Corporation, Redmond, WA; NetCentric Technology, LLC, Neptune, NJ; NINOX 360 LLC, Redwood City, CA; Nu-Trek, Inc., San Diego, CA; O'Gara-Hess & Eisenhardt Armoring Company LLC, Fairfield, OH; Onodi Tool & Engineering, Melvindale, MI; Patriot Products Inc, Franklin, IN; PD Systems, Sterling Heights, MI; PHUOC LUONG dba TWF ENTERPRISE, San Jose, CA; Planck Aerosystems, San Diego, CA; Quantum Research International, Inc., Huntsville, AL; Rebellion Defense, Inc., Washington, DC; Red Berry Innovations, Inc., Springfield, NE; Red Hat Professional Consulting, Inc., Raleigh, NC; Regents of the University of Michigan, Dearborn, MI; Remotec Inc (formerly Northrop Grumman Remotec), Clinton, TN; Reveal Technology Inc, San Carlos, CA; Robo-Team NA, Inc., Rockville, MD; Robotire, Inc., Canton, MI; SAPA Transmission, Inc., Fort Lauderdale, FL; Sarcos LC, Salt Lake City, UT; Seco USA, Inc, Rockville, MD; Senseeker Engineering, Santa Barbara, CA; Shield AI, San Diego, CA; Silicon Forest Electronics, Vancouver, WA; Sonalysts, Inc., Waterford, CT; Spear Power Systems Inc., Grandview, MO; Spectra Technologies, LLC, East Camden, AR; Stephens Pneumatics, Inc., Haslet, TX; Syntonics LLC, Columbia, MD; Technology Service Corporation, Arlington, VA; TeleSwivel, LLC, Durham, NC; TexPower, Inc., Austin, TX; The Entwistle Company, Hudson, MA; Underground Pipeline, INC, Eagle, WI; University of Texas at Arlington (Research Institute), Arlington, TX; and VRC Metals Systems, LLC, Box Elder, SD, have withdrawn as parties to this venture.

No other changes have been made in either the membership or planned activity of the group research project. Membership in this group research project remains open, and NAMC intends to file additional written notifications disclosing all changes in membership.

On October 15, 2009, NAMC filed its original notification pursuant to section 6(a) of the Act. The Department of Justice published a notice in the Federal Register pursuant to section 6(b) of the Act on November 30, 2009 (52 FR 8375).

The last notification was filed with the Department on October 17, 2022. A notice was published in the Federal Register pursuant to section 6(b) of the Act on November 8, 2022 (87 FR 67488).

Suzanne Morris,
Deputy Director Civil Enforcement Operations, Antitrust Division.

[FR Doc. 2023-28139 Filed 12-20-23; 8:45 am]

BILLING CODE P